FEDERAL COMMUNICATIONS COMMISSION

47 CFR Parts 64 and 76

[GN Docket No. 17-142, FCC 22-12, FRID 101044]

Improving Competitive Broadband Access to Multiple Tenant Environments

AGENCY: Federal Communications Commission.

ACTION: Final rule; announcement of compliance date.

SUMMARY: In this document, the Federal Communications Commission (Commission) announces that the Office of Management and Budget (OMB) has approved, for a period of three years, a disclosure requirement associated with the Commission's 2022 Multiple Tenant Environments (MTE) Order, FCC 22-12, in which the Commission, among other actions, required disclosure of certain exclusive marketing agreements on written marketing materials directed at tenants or prospective tenants of a multiple tenant environment. This document is consistent with the 2022 MTE Order, which stated that the Commission would publish a document in the Federal Register announcing the compliance date of these rules.

DATES: Effective: This rule is effective August 22, 2022.

Compliance dates: Compliance for new contracts under §§ 64.2500(e) and 47 CFR 76.2000(d) is required as of August 22, 2022. Compliance for existing contracts under §§ 64.2500(e) and 76.2000(d) is required as of September 26, 2022.

FOR FURTHER INFORMATION CONTACT: Jesse Goodwin, Competition Policy Division, Wireline Competition Bureau, (202) 418-0958, or email Benjamin.Goodwin@fcc.gov.

SUPPLEMENTARY INFORMATION: This document announces that, on July 25, 2022, OMB approved, for a period of three years, the information collection requirements relating to §§ 64.2500 and 76.2000 of the Commission's rules, as contained in the Commission's 2022 MTE Order, FCC 22-12, published at 87 FR 17181 on March 28, 2022. The OMB Control Number is 3060-1305.

The Commission publishes this document as an announcement of the compliance date of the rules. If you have any comments on the burden estimates listed below, or how the Commission can improve the collections and reduce any burdens caused thereby, please contact Nicole Ongele, Federal Communications Commission, 45 L Street NE, Washington, DC 20002. Please include the OMB Control Number, 3060-1305, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on July 25, 2022 for the information collection requirements contained in the Commission's modifications to the Commission's rules in 47 CFR parts 64 and 76. Under 5 CFR part 1320, an agency may not conduct or sponsor a collection of information unless it displays a current, valid OMB Control Number. No person shall be subject to any penalty for failing to comply with a collection of information subject to the Paperwork Reduction Act that does not display a current, valid OMB Control Number. The OMB Control Number is 3060-1305.

The foregoing notification is required by the Paperwork Reduction Act of 1995, Public Law 104-13, October 1, 1995, and 44 U.S.C. 3507. The total annual reporting burdens and costs for the respondents are as follows:

OMB Control Number: 3060-1305.

OMB Approval Date: July 25, 2022.

Expiration Date: July 31, 2025.

Title: Required Disclosure of Exclusive Marketing Arrangements in MTEs, Rule Sections 64.2500(e) and 76.2000(d).

Form Number: N/A.

Respondents: Business or other for-profit.

Number of Respondents and Responses: 515 respondents; 24,000,000 responses.

Estimated Time per Response: 3 hours.

Frequency of Response: Third-party disclosure requirement.

Total Annual Burden: 1,545 hours.

Total Annual Cost: No cost.

Obligation to Respond: Mandatory. Statutory authority for this information collection is contained in 47 U.S.C. 201(b) and 628(b).

Privacy Act Impact Assessment: No impact(s).

Nature and Extent of Confidentiality: No questions of a confidential nature are asked.

Needs and Uses: In Improving Competitive Broadband Access to Multiple Tenant Environments, GN Docket No. 17-142, Report and Order and Declaratory Ruling, FCC 22-12 (Feb. 11, 2022), the Commission, among other things, adopted new rules requiring providers (common carriers and multichannel video programming distributors (MVPDs) subject to 47 U.S.C. 628(b)) to disclose the existence of exclusive marketing arrangements that they have with owners of multi-tenant premises (MTEs). An exclusive marketing arrangement is an arrangement, either written or in practice, between an MTE owner and a provider that gives the provider, usually in exchange for some consideration, the exclusive right to certain means of marketing its service to tenants of the MTE. The required disclosure must be included on all written marketing material from the provider directed at tenants or prospective tenants of an MTE subject to the arrangement. The disclosure must explain in clear, conspicuous, legible, and visible language that the provider has the right to exclusively market its communications services to tenants in the MTE, that such a right does not suggest that the provider is the only entity that can provide communications services to tenants in the MTE, and that service from an alternative provider may be available. The purposes of the compelled disclosure are to remedy tenant confusion regarding the impact of exclusive marketing arrangements, prevent the evasion of our exclusive access rules, and, in turn, promote competition for communications services in MTEs.

List of Subjects

47 CFR Part 64

Communications common carriers, internet, Reporting and recordkeeping requirements, Telecommunications.

47 CFR Part 76

Administrative practice and procedure, Communications, internet, Reporting and recordkeeping requirements, Satellite, Telecommunications.

Federal Communications Commission.
Marlene Dortch,
Secretary.

For the reasons set forth in the preamble, the Federal Communications Commission amends parts 64 and 76 of title 47 of the Code of Federal Regulations as follows:

PART 64—MISCELLANEOUS RULES RELATING TO COMMON CARRIERS

1. The authority citation for part 64 continues to read as follows:

Authority: 47 U.S.C. 151, 152, 154, 201, 202, 217, 218, 220, 222, 225, 226, 227, 227b, 228, 251(a), 251(e), 254(k), 255, 262, 276, 403(b)(2)(B), (c), 616, 620, 716, 1401-1473, unless otherwise noted; Pub. L. 115-141, Div. P, sec. 503, 132 Stat. 348, 1091.

2. Amend § 64.2500 by revising paragraphs (e)(2)(i) and (ii) to read as follows:

§ 64.2500 Prohibited agreements and required disclosures.

* * * * *

(e) * * *

(2) * * *

(i) Compliance date for new contracts. After August 22, 2022, a common carrier shall disclose the existence of any contract entered into on or after April 27, 2022, regarding the provision of communications service in a multiunit premise, written or oral, in which it receives the exclusive right to market its service to tenants of a multiunit premise.

(ii) Compliance date for existing contracts. After September 26, 2022, a common carrier shall disclose the existence of any contract in existence as of April 27, 2022, regarding the provision of communications service in a multiunit premise, written or oral, in which it receives the exclusive right to market its service to tenants of a multiunit premise.

* * * * *

PART 76—MULTICHANNEL VIDEO AND CABLE TELEVISION SERVICE

3. The authority citation for part 76 continues to read as follows:

Authority: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 558, 560, 561, 571, 572, 573.

4. Amend § 76.2000 by revising paragraphs (d)(2)(i) and (d)(2)(ii) to read as follows:

§ 76.2000 Exclusive access to multiple dwelling units generally.

* * * * *

(d) * * *

(2) * * *

(i) Compliance date for new contracts. After August 22, 2022, a cable operator or other provider of MVPD service subject to 47 U.S.C. 548 shall disclose the existence of any contract regarding the provision of communications service in a MDU, written or oral, in which it receives the exclusive right to market its service to tenants of an MDU.

(ii) Compliance date for existing contracts. After September 26, 2022, a cable operator or other provider of MVPD service subject to 47 U.S.C. 548 shall disclose the existence of any contract regarding the provision of communications service in a MDU, written or oral, in which it receives the exclusive right to market its service to tenants of an MDU.

* * * * *

[FR Doc. 2022-17734 Filed 8-19-22; 8:45 am]

BILLING CODE P